DEPARTMENT OF THE INTERIOR

Bureau of Land Management

Notice of Intent To Prepare a ACEC/River Management Plan and EIS for the Wild and Scenic Klamath River in Oregon and That Portion of the Klamath River Down to the Slack Water of Copco Reservoir in California

AGENCIES: Bureau of Land Management Oregon and California, Oregon Parks and Recreation Department.

ACTION: Notice of Intent To Prepare an ACEC/River Management Plan and Environmental Impact Statement for the Klamath River in Southern Oregon and Northern California.

SUMMARY: Pursuant to Section 102(2)(C) of the National Environmental Policy Act of 1969, the Bureau of Land Management, Lakeview District/Klamath Falls Resource Area will be directing the preparation of an ACEC/River Management Plan and Environmental Impact Statement (EIS) evaluating the impacts of river uses in southern Oregon and northern California.

DATES: This is a scoping notice and responses to scoping are to be received at the Klamath Falls Resource Area Office, 2795 Anderson Avenue, Bldg. 25, Klamath Falls, OR 97603 by January 31, 2001.

Public scoping meetings for the River Management Plan will be held after the first of the year, 2001, in Klamath Falls, Oregon and/or Copco or Yreka or Redding, California.

The Draft River Management Plan and DEIS analysis would be available for public review by the fall of 2001. Comments will be accepted for the DEIS for 90 days. After incorporation of DEIS comments the document will be finalized and re-sent out for review after the first of the year, 2002. Comments will be accepted on the FEIS for 30 days.

ADDRESSES: Comments should be sent to Manager, Bureau of Land Management, Klamath Falls Resource Area, 2795 Anderson Avenue, Klamath Falls, OR 97603, ATTN: Klamath River Plan.

FOR FURTHER INFORMATION CONTACT: Larry Frazier, Natural Resources Branch Chief, (541) 883-6916.

SUPPLEMENTARY INFORMATION: The proposed ACEC/River Management Plan is located on the Klamath Falls Resource Area of the Lakeview District, Oregon and the Redding Field Office, California. An ACEC designation for this project was completed as part of the Klamath Falls Resource Area Resource Management Plan (1995). The Upper Klamath River was designated by the Secretary of the Interior as a Scenic River and was included in the National Wild and Scenic Rivers system under section 2(a)(ii) of the National Wild and Scenic Rivers Act on September 22, 1994. The same reach of river was designated a State Scenic Waterway in 1988 under Oregon's State Scenic Waterway Act.

The ACEC designation begins from the John C. Boyle Dam.

The purposes of undertaking an ACEC/River Management Plan and EIS at this time are to evaluate current river uses in an environmental document that will then be included as part of the environmental review in the Federal Energy Regulatory Commission (FERC) Relicensing process of hydroelectric uses on the river in 2005. The depth of analysis on some issues for the ACEC/River Management Plan will be dependent upon the results of scoping.

Tentative issues to be addressed are water quality and quantity, fisheries, recreation, cultural resources, wildlife, botanical resources, scenic river, and hydroelectric relicensing processes.

The proposed project area for the Klamath River in Oregon is @11 miles long from the John C. Boyle Dam to the OR/CA State Line and encompasses @4960 acres. The California portion of the project is from the OR/CA State Line to the slack water of Copco Reservoir in California, a distance of @10 miles and encompasses @4200 acres.

The proposed project is within Klamath County, Oregon and Siskiyou County, California. The proposed project is approximately 12-25 miles south west of Klamath Falls, Oregon beginning at the John C. Boyle Dam.

The BLM/Klamath Falls Resource Area, 2795 Anderson Avenue, Bldg. 25, Klamath Falls, OR 97603, (541) 883-6916 will be the lead agency in preparation of documents. Future documents will be available from this address. Related documents include the Final Eligibility and Suitability Report for the Upper Klamath Wild and Scenic River Study (1990) (Department of the Interior). Copies of this document are available from the Klamath Falls Resource Area office. Another related document is the Klamath Wild and Scenic River Eligibility Report and Environmental Assessment (1994) (National Park Service, Pacific Northwest Region). Copies of this document are available at the National Park Service, Northwest Regional Office, 909 First Avenue, Seattle, WA 98104-1060.

The interdisciplinary team will be made up of a team leader, wildlife, fisheries, botany, archaeology, recreation, hydrology, and planning specialists. An Interagency Review Committee comprised of representatives from county, state, and federal agencies will ensure the project complies with regulatory processes in California and Oregon. The Upper Basin Subcommittee of the Klamath Provincial Advisory Committee will assist in the gathering of information from private river users, local private landowners and other interested parties to include in the interdisciplinary analysis.

The Oregon Parks and Recreation Department is a cooperative agency in the preparation of this document. Other cooperating agencies are the BLM/Redding Field Office in California. The proposed project is for the BLM/Klamath Falls Resource Area to prepare an ACEC/River Management Plan and Environmental Impact Statement for the Klamath River project area. For this River Management Plan and EIS, the State of Oregon will prepare a chapter in the EIS document that will be the management plan for the State scenic waterway and the scenic river.

Comments, including names and addresses of respondents, will be available for public review at the Klamath Falls Resource Area office during regular business hours (8 a.m.to 5 p.m., M-F, except holidays) and may be published as part of the EIS or other related documents. Individuals may request confidentiality. If you wish to withhold your name or address from public review or from disclosure under the Freedom of Information Act, you must state this promptly at the beginning of your written comment. Such request will be honored to the extent allowed by law. All submissions from organizations or businesses, and from individuals identifying themselves as representatives or officials of organizations or businesses, will be made available for public inspection in their entirety.

If this management direction is approved, one or more of the alternatives would amend the Klamath Falls Resource Area Resource Management Plan (June 1995) and the Redding Resource Management Plan (June 1993). If the proposed direction amends the RMP plans in both California and Oregon, Bureau of Land Management regulations and associated manuals and handbooks for land use planning would apply.

Sincerely,
Teresa A. Raml,
Manager, Klamath Falls Resource Area.

[FR Doc. 00-30064 Filed 11-24-00; 8:45 am]

BILLING CODE 4310-40-U